DEPARTMENT OF THE INTERIOR

Fish and Wildlife Service

RIN 1018-AI95

DEPARTMENT OF COMMERCE

National Oceanic and Atmospheric Administration

[Docket No. 021223326-4022-02]

RIN 0648-AQ69

50 CFR Part 402

Joint Counterpart Endangered Species Act Section 7 Consultation Regulations

AGENCIES: Fish and Wildlife Service, Interior; National Marine Fisheries Service, National Oceanic and Atmospheric Administration, Commerce.

ACTION: Proposed rule; extension of public comment period.

SUMMARY: We, the U.S. Department of the Interior, Fish and Wildlife Service (FWS) and the U.S. Department of Commerce, National Oceanic and Atmospheric Administration, National Marine Fisheries Service (NOAA Fisheries) (referred to jointly as “Services” and individually as “Service”), after coordination with the Environmental Protection Agency (EPA) and the U.S. Department of Agriculture (USDA) announce the extension of the public comment period for the proposal to issue joint counterpart regulations pursuant to the Endangered Species Act of 1973 (as amended). We are extending the comment period for the proposal to allow all interested parties additional time to provide comments. Comments previously submitted will be incorporated into the public record as part of this extended comment period, and will be fully considered in the final decision.

DATES: Comments on this proposal must be received by April 16, 2004, to be considered in the final decision on this proposal.

ADDRESSES: Comments or materials concerning the proposed rule should be sent by regular mail or courier service to the Assistant Director for Endangered Species, U.S. Fish and Wildlife Service, 4401 North Fairfax Drive, Room 420, Arlington, Virginia 22203. You may also submit electronic comments via the Internet to Pesticide.ESARegulations@noaa.gov. Please submit Internet comments as an ASCII file avoiding the use of special characters and any form of encryption. Please also include “Attn: 1018-AI95” and your name and return address in your Internet message. Comments and materials received in conjunction with this rulemaking will be available for inspection, by appointment, during normal business hours at the above address.

The FWS agreed to take responsibility for receipt of public comments and will share any comments it receives with NOAA Fisheries, EPA and USDA. All the agencies will work together to compile, analyze, and respond to the public comments. Due to a recent court decision blocking the Fish and Wildlife Service's access to the internet, NOAA Fisheries will assume responsibility for receiving any subsequent comments sent electronically from the date of this notice until the close of the comment period and will share those comments with the other agencies. Comments that are sent via the postal service or courier should be sent to the FWS at the above address.

FOR FURTHER INFORMATION CONTACT: Gary Frazer, Assistant Director for Endangered Species, at the above address (Telephone 703/358-2171, Facsimile 703/358-1735) or Phil Williams, Chief, Endangered Species Division, NOAA Fisheries, 1315 East-West Highway, Silver Spring, MD 20910 (301/713-1401; facsimile 301/713-0376).

SUPPLEMENTARY INFORMATION: The U.S. Department of the Interior, Fish and Wildlife Service (FWS) and the U.S. Department of Commerce, National Oceanic and Atmospheric Administration, National Marine Fisheries Service (NOAA Fisheries) (referred to jointly as “Services” and individually as “Service”), after coordination with the Environmental Protection Agency (EPA) and the U.S. Department of Agriculture (USDA), proposed joint counterpart regulations for consultation under section 7 of the Endangered Species Act of 1973, as amended (ESA) for regulatory actions under the Federal Insecticide, Fungicide and Rodenticide Act (FIFRA) on January 30, 2004 (69 FR 4465).

Counterpart regulations, described in general terms at 50 CFR 402.04, are intended to provide flexibility in the ways that a federal agency may meet its obligations under the ESA by creating alternative procedures to the existing section 7 consultation process described at 50 CFR subpart B. These proposed counterpart regulations would complement the existing section 7 consultation process and enhance the efficiency and effectiveness of the section 7 consultation process by increasing interagency cooperation and providing two optional alternatives for completing section 7 consultation for FIFRA regulatory actions. One alternative process would eliminate the need for EPA to conduct informal consultation and obtain written concurrence from the Service for those FIFRA actions that EPA determines are “not likely to adversely affect” any listed species or critical habitat. The other alternative consultation process would permit the Service to conduct formal consultation in a manner that more effectively takes advantage of EPA's substantial expertise in evaluating ecological effects of FIFRA regulatory actions on federally-protected threatened and endangered species (“listed species”) and critical habitats.

By court order dated March 15, 2004, the Department of the Interior was directed to disconnect all of its Information Technology systems from the Internet. This court order has precluded agencies and other parties from submitting comments electronically to the Internet mailbox PesticideESARegulations@fws.gov, which was established for the purpose of receiving electronic comments. Although a stay was granted allowing the FWS to reconnect to the Internet on March 24, 2004, parties wishing to submit public comments on this proposed rule should no longer use the e-mail address described in the January 30, 2004, notice of proposed rulemaking. We are establishing a new electronic mailbox to receive electronic comments. Any comments that were submitted electronically to PesticideESARegulations@fws.gov between March 15, 2004, and March 25, 2004, should be re-submitted to the internet address described below or by hardcopy to the address indicated in the ADDRESSES section above. Other comments submitted to PesticideESARegulations@fws.gov before March 15, 2004, will be considered and do not need to be re-submitted. As of March 31, 2004 electronic comments should now be submitted to Pesticide.ESARegulations@noaa.gov. Any comments on this proposed rule must be received no later than April 16, 2004, to be considered in the final decision. Additional information regarding this proposed rule may be viewed online at http://www.nmfs.noaa.gov/pr/laws/pesticides.htm.

Dated: March 26, 2004.
Craig Manson,
Assistant Secretary for Fish and Wildlife and Parks.
Dated: March 25, 2004.
Rebecca Lent,
Deputy Assistant Administrator for Regulatory Programs, National Marine Fisheries Service.

[FR Doc. 04-7284 Filed 3-29-04; 10:23 am]

BILLING CODE 4310-55-P